DEPARTMENT OF JUSTICE

Drug Enforcement Administration

[Docket No. DEA-392]

Importer of Controlled Substances Registration

ACTION: Notice of registration.

SUMMARY: Registrants listed below have applied for and been granted registration by the Drug Enforcement Administration (DEA) as importers of various classes of schedule I or II controlled substances.

SUPPLEMENTARY INFORMATION:

The companies listed below applied to be registered as importers of various basic classes of controlled substances. Information on previously published notices is listed in the table below. No comments or objections were submitted and no requests for hearing were submitted for these notices.

Company | FR docket | Published
Rhodes Technologies | 81 FR 46956 | July 19, 2016.
Bellwyck Clinical Services | 81 FR 54603 | August 16, 2016.
Cerilliant Corporation | 81 FR 57933 | August 24, 2016.
Noramco, Inc | 81 FR 57932 | August 24, 2016.
Cody Laboratories, Inc | 81 FR 54602 | August 16, 2016.
AMRI Rensselaer, Inc | 81 FR 54603 | August 16, 2016.
ALMAC Clinical Services Incorp (ACSI) | 81 FR 54602 | August 16, 2016.
Fresenius Kabi USA, LLC | 81 FR 54601 | August 16, 2016.
Akorn, Inc | 81 FR 57935 | August 24, 2016.
Actavis Laboratories FL, Inc | 81 FR 54602 | August 16, 2016.
Unither Manufacturing LLC | 81 FR 61250 | September 6, 2016.
Cambrex Charles City | 81 FR 63222 | September 14, 2016.
United States Pharmacopeial Convention | 81 FR 63220 | September 14, 2016.
R & D Systems, Inc | 81 FR 64509 | September 20, 2016.
Catalent CTS, LLC | 81 FR 66081 | September 26, 2016.

The DEA has considered the factors in 21 U.S.C. 823, 952(a) and 958(a) and determined that the registration of the listed registrants to import the applicable basic classes of schedule I or II controlled substances is consistent with the public interest and with United States obligations under international treaties, conventions, or protocols in effect on May 1, 1971. The DEA investigated each company's maintenance of effective controls against diversion by inspecting and testing each company's physical security systems, verifying each company's compliance with state and local laws, and reviewing each company's background and history.

Therefore, pursuant to 21 U.S.C. 952(a) and 958(a), and in accordance with 21 CFR 1301.34, the DEA has granted a registration as an importer for schedule I or II controlled substances to the above listed persons.

Dated: December 19, 2016.
Louis J. Milione,
Assistant Administrator.

[FR Doc. 2016-31273 Filed 12-27-16; 8:45 am]

BILLING CODE 4410-09-P